DEPARTMENT OF HEALTH AND HUMAN SERVICES

Centers for Disease Control and Prevention

[Docket No. CDC-2017-0115]

Availability of Draft Vessel Sanitation Program (VSP) Operations Manual and VSP Construction Guidelines

AGENCY: Centers for Disease Control and Prevention (CDC), Department of Health and Human Services (HHS).

ACTION: Notice of availability and request for comment.

SUMMARY: The Centers for Disease Control and Prevention (CDC), within the Department of Health and Human Services (HHS), announces the opening of a public docket to obtain comment on the draft Vessel Sanitation Program (VSP) Operations Manual and the VSP Construction Guidelines. Information about locating these documents can be found in the supporting materials section and on the VSP Web site. VSP established the public health standards found in the VSP Operations Manual and Construction Guidelines to target the control and prevention of gastrointestinal illnesses on cruise ships. The VSP Operations Manual and Construction Guidelines were last updated in 2011. New technology, advanced food science, and emerging pathogens require updates to these documents.

DATES: Comments must be submitted by February 2, 2018.

ADDRESSES: You may submit comments, identified by docket number CDC-2017-0115, by any of the following methods:

• Internet: Access the Federal eRulemaking Portal at www.regulations.gov. Follow the instructions for submitting comments.

• Mail: Vessel Sanitation Program, National Center for Environmental Health, Centers for Disease Control and Prevention, 4770 Buford Highway, MS F-59, Chamblee, Georgia 30341-3717.

Instructions: All submissions must include the agency name and docket number for this notice.

FOR FURTHER INFORMATION CONTACT: Commander Aimee Treffiletti, Chief, Vessel Sanitation Program, National Center for Environmental Health, Centers for Disease Control and Prevention, 4770 Buford Highway NE., MS F-59, Chamblee, Georgia 30341-3717; phone: 800-323-2132 or 954-356-6650; email: vsp@cdc.gov.

SUPPLEMENTARY INFORMATION: HHS/CDC established the Vessel Sanitation Program (VSP) in the 1970s as a cooperative activity with the cruise ship industry. VSP helps the cruise ship industry prevent and control the introduction, transmission, and spread of gastrointestinal illnesses (GI) on cruise ships. VSP operates under the authority of the Public Health Service Act (Section 361 of the Public Health Service Act; 42 U.S.C. 264, “Control of Communicable Diseases”). Regulations found at 42 CFR 71.41 state that carriers arriving at U.S. ports from a foreign area are subject to sanitary inspections to determine whether rodent, insect, or other vermin infestations exist, or whether contaminated food or water or other sanitary conditions requiring measures for the prevention of the introduction, transmission, or spread of communicable diseases are present.

VSP established the public health standards found in the current version of the VSP Operations Manual and VSP Construction Guidelines. These standards target the control and prevention of GI illnesses on cruise ships.

VSP is updating the VSP Operations Manual to reflect new technologies, current food science, disease patterns and trends, and emerging pathogens. VSP also is updating the VSP Construction Guidelines as a framework of consistent construction and design guidelines related to public health, including vessel facilities related to food storage, preparation, and service and water bunkering, storage, disinfection, and distribution.

The draft VSP Operations Manual and the draft VSP Construction Guidelines are available online at www.regulations.gov, Docket No. CDC-2017-0115, under Supplemental Materials.

Dated: November 27, 2017.
Sandra Cashman,
Executive Secretary, Centers for Disease Control and Prevention.

[FR Doc. 2017-25955 Filed 12-1-17; 8:45 am]

BILLING CODE 4163-18-P